DEPARTMENT OF THE INTERIOR

National Park Service

[NPS-WASO-NAGPRA-NPS0037061; PPWOCRADN0-PCU00RP14.R50000]

Notice of Inventory Completion: University of Alaska Museum of the North, Fairbanks, AK

AGENCY: National Park Service, Interior.

ACTION: Notice.

SUMMARY: In accordance with the Native American Graves Protection and Repatriation Act (NAGPRA), the University of Alaska Museum of the North has completed an inventory of human remains and associated funerary objects and has determined that there is a cultural affiliation between the human remains and associated funerary objects and Indian Tribes or Native Hawaiian organizations in this notice. The human remains and associated funerary objects were removed from the Aleutians West Census Area, AK.

DATES: Repatriation of the human remains and associated funerary objects in this notice may occur on or after January 12, 2024.

ADDRESSES: Josh Reuther, University of Alaska Museum of the North, 1962 Yukon Drive, Fairbanks, AK 99775, telephone (907) 474-6943, email jreuther@alaska.edu.

SUPPLEMENTARY INFORMATION: This notice is published as part of the National Park Service's administrative responsibilities under NAGPRA. The determinations in this notice are the sole responsibility of the University of Alaska Museum of the North. The National Park Service is not responsible for the determinations in this notice. Additional information on the determinations in this notice, including the results of consultation, can be found in the inventory or related records held by the University of Alaska Museum of the North.

Description

In 1937, nine associated funerary objects were collected by Don McKay from Unalaska Island in the Aleutian Islands. The exact location is unknown; the provenience is listed as Dutch Harbor Spit. In 1981, these funerary objects were deposited at the University of Alaska Museum of the North. Museum records show that in 1937, the human remains associated with these funerary objects were given to Ales Hrdlicka at the Smithsonian Institute in Washington DC The nine associated funerary objects are four worked bone objects, one pounding stone, three stone lamps, and one slate blade.

In 1977, human remains representing, at minimum, one individual were removed from the Amaknak Bridge Site on Amaknak Island in the Aleutian Islands. The human remains of this individual were removed during archeological work conducted at the site by Glenn Bacon and were deposited at the University of Alaska Museum of the North shortly thereafter. The human remains consist of a single left half of a mandible belonging to an adult between 30 and 50 years old and of unknown sex. No associated funerary objects are present.

Sometime prior to 1982, human remains representing, at minimum, one individual were removed from an unknown site on Unalaska Island in the Aleutian Islands. The human remains of this individual were removed by an unknown person and were deposited at the University of Alaska Museum of the North prior to 1982. The human remains consist of a single cranium frontal bone belonging to a juvenile 4 to 6 years old and of unknown sex. No associated funerary objects are present.

Sometime prior to 1993, human remains representing, at minimum, one individual were removed from Eider Point on Unalaska Island in the Aleutian Islands. The human remains of this individual were removed by an unknown person and were deposited at the University of Alaska Museum of the North prior to 1993. The human remains consist of a single left femur belonging to an adult female 21 to 35 years old. No associated funerary objects are present.

Sometime prior to 1993, human remains representing, at minimum, one individual were removed from Reese Bay on Unalaska Island in the Eastern Aleutian Islands. The human remains of this individual were removed by an unknown person and were deposited at the University of Alaska Museum of the North prior to 1993. The human remains consist of a single left radius belonging to an adult at least 30 years old and of unknown sex. No associated funerary objects are present.

Sometime prior to 1993, human remains representing, at minimum, two individuals were removed from an unknown location on Unalaska Island in the Eastern Aleutian Islands. The human remains of these individuals were removed by an unknown person and were deposited at the University of Alaska Museum of the North prior to 1993. The human remains consist of a single cranium (in two pieces) belonging to a juvenile 4-6 years old and of unknown sex, and a single cranial temporal bone belonging to an adult at least 20 years old and of unknown sex. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological and oral traditional.

Determinations

Pursuant to NAGPRA and its implementing regulations, and after consultation with the appropriate Indian Tribes and Native Hawaiian organizations, the University of Alaska Museum of the North has determined that:

• The human remains described in this notice represent the physical remains of six individuals of Native American ancestry.

• The nine objects described in this notice are reasonably believed to have been placed with our near individual human remains at the time of death or later as part of the death rite or ceremony.

• There is a relationship of shared group identity that can be reasonably traced between the human remains and associated funerary objects described in this notice and the Qawalangin Tribe of Unalaska.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 12, 2024. If competing requests for repatriation are received, the University of Alaska Museum of the North must determine the most appropriate requestor prior to repatriation. Requests for joint repatriation of the human remains and associated funerary objects are considered a single request and not competing requests. The University of Alaska Museum of the North is responsible for sending a copy of this notice to the Indian Tribe identified in this notice.

Authority: Native American Graves Protection and Repatriation Act, 25 U.S.C. 3003, and the implementing regulations, 43 CFR 10.9, 10.10, and 10.14.

Dated: December 6, 2023.
Melanie O'Brien,
Manager, National NAGPRA Program.

[FR Doc. 2023-27375 Filed 12-12-23; 8:45 am]

BILLING CODE 4312-52-P